ELECTION ASSISTANCE COMMISSION

Publication of State Plan Pursuant to the Help America Vote Act

AGENCY: Election Assistance Commission (EAC).

ACTION: Notice.

SUMMARY: Pursuant to sections 254(a)(11)(A) and 255(b) of the Help America Vote Act (HAVA), Public Law 107-252, the U.S. Election Assistance Commission (EAC) hereby causes to be published in the Federal Register changes to the HAVA state plan previously submitted by New Mexico.

DATES: This notice is effective upon publication in the Federal Register.

FOR FURTHER INFORMATION CONTACT: Bryan Whitener, Telephone (202) 566-3100 or 1 (866) 747-1471 (toll-free).

Subit Comments: Any comments regarding the plans published herewith should be made in writing to the chief election official of the individual state at the address listed below.

SUPPLEMENTARY INFORMATION: On March 24, 2004, the U.S. Election Assistance Commission published in the Federal Register the original HAVA state plans filed by the fifty States, the District of Columbia and the territories of American Samoa, Guam, Puerto Rico, and the U.S. Virgin Islands. 69 FR 14002. HAVA anticipated that states, territories and the District of Columbia would change or update their plans from time to time pursuant to HAVA section 254(a)(11) through (13). HAVA sections 254(a)(11)(A) and 255 require EAC to publish such updates. This is the second revision to the state plan for New Mexico.

The amendment to New Mexico's state plan include securing a custom, hardware, firmware, and software maintenance services information technology contractual agreement for all state approved voting machines and other ancillary election equipment. In accordance with HAVA section 254(a)(12), all the state plans submitted for publication provide information on how the respective state succeeded in carrying out its previous state plan. New Mexico confirms that its amendments to the state plan were developed and submitted to public comment in accordance with HAVA sections 254(a)(11), 255, and 256.

Upon the expiration of thirty days from May 18, 2010, the state is eligible to implement the changes addressed in the plan that is published herein, in accordance with HAVA section 254(a)(11)(C). EAC wishes to acknowledge the effort that went into revising this state plan and encourages further public comment, in writing, to the State Election Official listed below.

Chief State Election Official

The Honorable Mary Herrera, Secretary of State, New Mexico State Capitol, 325 Don Gaspar, Suite 300, Santa Fe, New Mexico 87503, Phone: (505) 827-3600 or 1 (800) 477-3632, Fax: (505) 827-8403.

Thank you for your interest in improving the voting process in America.

Dated: May 10, 2010.
Thomas R. Wilkey,
Executive Director, Election Assistance Commission.

BILLING CODE 6820-KF-P

[FR Doc. 2010-11779 Filed 5-17-10; 8:45 am]

BILLING CODE 6820-KF-C